DEPARTMENT OF TRANSPORTATION

Federal Motor Carrier Safety Administration

[Docket No. FMCSA-2006-26367]

Motor Carrier Safety Advisory Committee Public Subcommittee Meeting; Amendment

AGENCY: Federal Motor Carrier Safety Administration (FMCSA), DOT.

ACTION: Notice; amendment.

SUMMARY: This notice amends FMCSA's August 10, 2011, notice announcing meetings of the Agency's Motor Carrier Safety Advisory Committee (MCSAC) from August 29-31, 2011. The time for the session on Tuesday, August 30 was listed incorrectly in the notice. The meeting on Tuesday, August 30, 2011, will begin at 8:30 a.m. (E.S.T.) and will conclude at 5 p.m., with the last hour reserved for public comment. All other information contained in the notice remains valid.

FOR FURTHER INFORMATION CONTACT: Ms. Shannon L. Watson, (202) 385-2395, mcsac@dot.gov.

TIMES AND DATES: The meeting will be held Monday-Wednesday, August 29-31, 2011, from 8:30 a.m. to 5 p.m. (E.S.T.) at the Hilton Alexandria Old Town, 1767 King Street, Alexandria, VA 22314, in the Washington and Jefferson Rooms on the 2nd floor.

SUPPLEMENTARY INFORMATION: The FMCSA's August 10, 2011, notice (76 FR 49527) indicated that the Agency's MCSAC would meet August 29-31, 2011, at the Hilton Alexandria Old Town. The notice indicated the Tuesday, August 30, 2011, meeting would be held from 8:30 a.m. to 1 p.m. (E.S.T.). The actual time of the meeting on that date is 8:30 a.m. to 5 p.m. (E.S.T.).

Issued on: August 23, 2011.
Larry W. Minor,
Associate Administrator for Policy.

[FR Doc. 2011-22049 Filed 8-26-11; 8:45 am]

BILLING CODE 4910-EX-P